DEPARTMENT OF THE INTERIOR

Bureau of Land Management

[WO-310-1310-PB-01-24 1A]

Extension of Approved Information Collection, OMB Number 1004-0136

AGENCY: Bureau of Land Management, Interior.

ACTION: Notice and request for comments.

SUMMARY: In accordance with the Paperwork Reduction Act of 1995, the Bureau of Land Management (BLM) announces its intention to request renewal of an existing approval to collect certain information from oil and gas operators who submit an Application for Permit to Drill (Form 3160-3). The information allows BLM to review technical and environmental factors in the process of approving proposed oil and gas drilling operations.

DATES: Comments on the proposed information collection must be received by October 17, 2000 to assure consideration of them.

ADDRESSES: Comments may be mailed to: Regulatory Affairs Group (630), Bureau of Land Management, 1849 C Street NW., Room 401LS, Washington, DC 20240.

Comments may be sent via Internet to: WOComment@blm.gov. Please include “Attn: 1004-0136” and your name and return address in your Internet message.

You may hand-deliver comments to the Bureau of Land Management, Administrative Record, Room 401, 1620 L Street, NW., Washington, DC.

BLM will make comments available for public review at the L Street address during regular business hours (7:45 a.m. to 4:15 p.m.), Monday through Friday.

FOR FURTHER INFORMATION CONTACT: Barbara Gamble, Fluid Minerals Group, (202) 452-0338.

SUPPLEMENTARY INFORMATION: In accordance with 5 CFR 1320.12(a), BLM is required to provide 60-day notice in the Federal Register concerning a collection of information contained in published current rules to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

The Mineral Leasing Act of 1920 (30 U.S.C. 181 et seq.), as amended; the Mineral Leasing Act for Acquired Lands of 1947 (30 U.S.C. 351-359), as amended; the various Indian leasing acts; the National Environmental Policy Act of 1969 (42 U.S.C. 4321 et seq.), as amended, and other environmental laws govern onshore oil and gas operations. BLM's implementing regulations are located at 43 CFR part 3160. The regulations at 43 CFR 3162.3-1 require an oil and gas well operator to submit an Application for Permit to Drill (Form 3160-3) for each well at least 30 days before any drilling operations or surface disturbances are commenced. On the form, respondents are requested to provide information describing the proposed activities, including the type of well and work anticipated, the operator's identity and address, surface and bottom-hole location of the proposed action, and various kinds of technical data, depending on the type of activity proposed.

The data submitted is used for agency review and approval of proposed drilling operations. The review ensures that all actions are in accordance with policies and regulations and are conducted in a technically and environmentally sound manner. Specifically, BLM uses the information to review technical and environmental factors germane to each well, reservoir management, engineering and environmental compliance, and to ensure that drilling is conducted in compliance with existing spacing orders. BLM uses technical data about the drilling for both permit approval and subsequent on-the-ground review and inspection after actual drilling begins. BLM gathers information on prospective production of resources so that all potential impacts can be evaluated during the approval process.

If BLM did not collect the information, there would be no assurance that drilling and associated activities, when and if authorized, are technically and environmentally feasible and ensure proper conservation of the resources. The information submitted provides a basis for BLM to evaluate the proposed well's feasibility and, in turn, determine whether the application should be disapproved or approved and, if approved, whether any special conditions of approval should be made part of the permit.

BLM also requires operators to prepare certain items such as drilling plans, diagrams and maps, and contingency plans. Operators generally submit these items as attachments to Form 3160-3 in accordance with 43 CFR 3162.3-1. We have included the burden hours for such attachments in OMB approval number 1004-0134, which covers all nonform requirements of 43 CFR Part 3150.

Based on BLM's experience administering the onshore oil and gas program, the public reporting burden for the information collected is estimated to average 30 minutes per response to supply the requested information. Respondents are operators of oil and gas wells. The frequency of response is variable depending on operating circumstances. The number of responses per year is estimated to total 4000, and the estimated total annual burden on new respondents is 2000 hours. BLM is specifically requesting your comments on its estimate of the amount of time that it takes to prepare a response.

Any interested member of the public may request and obtain, without charge, a copy of Form 3160-3 by contacting the person identified under FOR FURTHER INFORMATION CONTACT.

BLM will summarize all responses to this notice and include them in the request for Office of Management and Budget approval. All comments will also become a matter of public record.

Dated: August 15, 2000.
Shirlean Beshir,
BLM Information Clearance Officer.

[FR Doc. 00-21111 Filed 8-17-00; 8:45 am]

BILLING CODE 4310-84-M